DEPARTMENT OF ENERGY

Federal Energy Regulatory Commission

[Docket Nos. CP07-398-000, CP07-399-000, CP07-400-000, CP07-401-000, CP07-402-000 and CP07-403-000]

Gulf Crossing Pipeline Company LLC; Gulf South Pipeline Company, LP; Enogex Inc.; Notice of Application

June 26, 2007.

Take notice that on June 19, 2007, Gulf Crossing Pipeline Company LLC (Gulf Crossing) and Gulf South Pipeline Company, LP (Gulf South), 9 East Greenway Plaza, Suite 2800, Houston, Texas 77046, filed in Docket Nos. CP07-398-000, CP07-399-000, CP07-400-000, CP07-401-000 and CP07-402-000, a joint application pursuant to section 7 of the Natural Gas Act (NGA) to authorize Gulf Crossing to site, construct, and operate certain facilities, and Gulf South to abandon capacity by lease and to site, construct, and operate certain facilities. In Docket No. CP07-398-000, Gulf Crossing seeks authorization to construct a 353.2 mile pipeline and associated compression facilities extending from Sherman, Texas to an interconnect with Gulf South at Gulf South's Tallulah Compressor Station in Madison Parish, Louisiana. In that filing, Gulf Crossing also seeks authorization to lease up to 165,000 Dth/d of upstream capacity on the intrastate pipeline system of Enogex and up to 1.4 billion cubic feet (Bcf) of natural gas per day from Gulf South from Tallulah to Transco's Station 85 located at the terminus of Gulf South's Southeast Expansion Project. In Docket Nos. CP07-399-000 and CP07-400-000, Gulf Crossing seeks blanket certificates under Part 157, Subpart F and under Part 284, Subpart G, respectively, of the Commission's regulations. Gulf South seeks authorization pursuant to section 7 of the NGA in Docket Nos. CP07-401-000 and CP07-402-000, respectively, to construct approximately 17.8 miles of pipeline loop between Gulf South's Tallulah Compressor Station and its Harrisville Compressor Station located in Simpson County, Mississippi, and as described above, to abandon by lease up to 1.4 Bcf/d of natural gas capacity to Gulf Crossing. In a related application filed on June 20, 2007 in Docket No. CP07-403-000, Enogex seeks a limited jurisdiction certificate to lease up to 165,000 Dth/d of natural gas on its intrastate system from Bennington, Oklahoma to the new pipeline facilities of Gulf Crossing, all as more fully set forth in the applications which are on file with the Commission and open to public inspection. The instant filings may be also viewed on the Web at http://www.ferc.gov using the “eLibrary” link. Enter the docket number excluding the last three digits in the docket number field to access the document. For assistance, call (866) 208-3676 or TTY, (202) 502-8659.

Any questions regarding this application may be directed to J. Kyle Stephens, Director of Certificates, 9 East Greenway Plaza, Suite 2800, Houston, Texas 77046 or by telephone at 713-544-7309 or telecopy to 713-479-1846 or by e-mail to kyle.stephens@bwpmlp.com.

On November 30, 2006, the Commission staff granted Gulf Crossing's request to utilize the Commission's Pre-Filing Process for its Gulf Crossing Project and assigned Docket No. PF07-1-000 to staff activities involved therein. Now, as of the filing of Gulf Crossing's application on June 19, 2007, the Commission's Pre-Filing Process for this project has ended. From this time forward, Gulf Crossing's proceeding will be conducted in Docket No. CP07-398-000, et. al, as noted in the caption of this Notice.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the internet in lieu of paper; see, 18 CFR 385.2001(a)(1)(iii) and the instructions on the Commission's Web site under the “e-Filing” link. The Commission strongly encourages electronic filings.

Comment Date: 5 p.m. Eastern Time on July 17, 2007.

Kimberly D. Bose,
Secretary.

[FR Doc. E7-12803 Filed 7-2-07; 8:45 am]

BILLING CODE 6717-01-P